NUCLEAR REGULATORY COMMISSION

Request for a License To Import Radioactive Waste

Pursuant to 10 CFR 110.70(C) “Public notice of receipt of an application,” please take notice that the Nuclear Regulatory Commission (NRC) has received the following request for an import license. Copies of the request are available electronically through ADAMS and can be accessed through the Public Electronic Reading Room (PERR) link http://www.nrc.gov/reading-rm.html at the NRC Homepage.

A request for a hearing or petition for leave to intervene may be filed within 30 days after publication of this notice in the Federal Register. Any request for hearing or petition for leave to intervene shall be served by the requestor or petitioner upon the applicant, the Office of the General Counsel, U.S. Nuclear Regulatory Commission, Washington, DC 20555; the Secretary, U.S. Nuclear Regulatory Commission, Washington, DC 20555; and the Executive Secretary, U.S. Department of State, Washington, DC 20520.

The information concerning this import license application follows.

NRC Import License Application
Name of applicant, date of application, date received, application No. docket No. | Description of material: Material type | Description of material: Total quantity | End use | Country of origin
Westinghouse Electric Company LLC, February 28, 2007, March 1, 2007, IW021, 11005674 | Contaminated materials (waste filter cake and shot) generated by Mississauga Metals & Alloys in Ontario, Canada from the decontamination of steel received from the Hematite facility in Festus, MO under NRC License XW003 | Mississauga is required to return up to 74,843.0 kilograms of filter cake and 122,470.0 kilograms of shot, which it expects to generate from the decontamination process. It is expected that these materials will be contaminated with up to 3.506 kilograms uranium-235 contained in up to a total of 72.288 kilograms of uranium with a maximum enrichment of 4.9 weight percent | All materials are to be disposed of at the Energy Solutions of Utah site located in Clive, Utah in accordance with an existing agreement between the parties | Canada.

Dated this 13th day of March 2007 at Rockville, Maryland.
For the Nuclear Regulatory Commission.
Margaret M. Doane,
Deputy Director, Office of International Programs.

[FR Doc. E7-5336 Filed 3-22-07; 8:45 am]

BILLING CODE 7590-01-P